DEPARTMENT OF ENERGY

Federal Energy Regulatory Commission

[Docket No. RP01-245-013]

Transcontinental Gas Pipe Line Corporation; Notice of Compliance Filing

November 6, 2002.

Take notice that on October 30, 2002 Transcontinental Gas Pipe Line Corporation (Transco) tendered for filing FERC Gas Tariff, Third Revised Volume No. 1, Sixteenth Revised Sheet No. 27A, with an effective date of December 1, 2002.

Transco states that the purpose of the instant filing is to implement the uncontested settlement of the issue of the design of the rate for service under Transco's Rate Schedule ISS in Transco's Docket No. RP01-245 et al.

Transco states that copies of the filing are being mailed to each of its affected customers, interested State Commissions, and other interested parties.

Any person desiring to protest said filing should file a protest with the Federal Energy Regulatory Commission, 888 First Street, NE., Washington, DC 20426, in accordance with section 385.211 of the Commission's rules and regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. 02-28776 Filed 11-12-02; 8:45 am]

BILLING CODE 6717-01-P